NUCLEAR REGULATORY COMMISSION

[NRC-2014-0144]

Regulatory Guide 10.1, Compilation of Reporting Requirements for Persons Subject to NRC Regulations

AGENCY: Nuclear Regulatory Commission.

ACTION: Regulatory guide; withdrawal.

SUMMARY: The U.S. Nuclear Regulatory Commission (NRC) is withdrawing Regulatory Guide (RG) 10.1, “Compilation of Reporting Requirements for Persons Subject to NRC Regulations.” (ML003740185). This guide is being withdrawn because it is no longer accurate or current. Regulatory Guide 10.1 provides a summary of the reporting requirements in existence at the time of issuance and becomes outdated upon the first change to any NRC reporting requirement after issuance.

DATES: The effective date of the withdrawal of Regulatory Guide 10.1 is June 26, 2014.

ADDRESSES: Please refer to Docket ID NRC-2014-0144 when contacting the NRC about the availability of information regarding this document. You may obtain publicly-available information related to this document using any of the following methods:

• Federal Rulemaking Web site: Go to http://www.regulations.gov and search for Docket ID NRC-2014-0144. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The bases document for the withdrawal of RG 10.1 is available in ADAMS under Accession No. ML14035A256.

• NRC's PDR: You may examine and purchase copies of public documents at the NRC's PDR, Room O1-F21, One White Flint North, 11555 Rockville Pike, Rockville, Maryland 20852.

FOR FURTHER INFORMATION CONTACT: Stephen Burton, Office of Nuclear Regulatory Research, telephone: 301-415-7000; email: Stephen.Burton@nrc.gov; U.S. Nuclear Regulatory Commission, Washington, DC 20555-0001.

SUPPLEMENTARY INFORMATION:

I. Introduction

The NRC is withdrawing RG 10.1 because it is no longer accurate or current. Regulatory Guide 10.1 provides a summary of the reporting requirements in existence at the time of issuance and becomes outdated upon the first change to any NRC reporting requirement after issuance. The most recent version of RG 10.1, Revision 4, was issued in October 1981 (ADAMS Accession No. ML003740185). Regulatory Guide 10.1 provides a compilation of reporting requirements applicable to the various types of NRC licensees and other persons subject to NRC regulations. It is impractical to continue to maintain current and accurate information in a timely manner, and is duplicative of the information that is already provided in a timely manner in the NRC's regulations in Chapter 1 of Title 10 of the Code of Federal Regulations (10 CFR).

II. Additional Information

The withdrawal of RG 10.1 does not alter any prior or existing licensing commitments based on its use. The guidance provided in RG 10.1 is no longer necessary. Regulatory guides may be withdrawn when their guidance no longer provides useful information, or is superseded by technological innovations, Congressional actions, or other events.

Regulatory guides are revised for a variety of reasons and the withdrawal of an RG should be thought of as the final revision of the guide. Although a regulatory guide is withdrawn, current licensees may continue to use it, and withdrawal does not affect any existing licenses or agreements. Withdrawal of a regulatory guide means that the regulatory guide should not be used for future NRC licensing activities. Changes to existing licenses can be accomplished using other regulatory products.

Dated at Rockville, Maryland, this 24th day of June, 2014.
For the Nuclear Regulatory Commission.
Thomas H. Boyce,
Chief, Regulatory Guidance and Generic Issues Branch, Division of Engineering, Office of Nuclear Regulatory Research.

[FR Doc. 2014-15640 Filed 7-2-14; 8:45 am]

BILLING CODE 7590-01-P